NUCLEAR REGULATORY COMMISSION

Peer Review Committee for Source Term Modeling; Notice of Meeting

The Peer Review Committee for Source Term Modeling will hold a closed meeting on June 16-18, 2004 at Sandia National Laboratories (SNL), Albuquerque, NM.

The entire meeting will be closed to public attendance to protect information classified as national security information pursuant to 5 U.S.C. 552b(c)(1).

The agenda for the subject meeting shall be as follows:

Wednesday, June 16 through Friday, June 18—8:30 a.m. until the conclusion of business.

The Committee will review Sandia National Laboratories (SNL) activities associated with the development of guidance documents for estimating source terms resulting from sabotage attacks on radioactive material source transportation packages other than spent nuclear fuel and develop a letter report on the radiological assessments for the NRC.

For further information regarding the time of the meeting and possible changes to the starting and ending times and the duration of the meeting, contact: Dr. Andrew L. Bates, (telephone 301-415-1963) or Dr. Charles G. Interrante (telephone 301-415-3967) between 7:30 a.m. and 4:15 p.m. (ET)

Dated: June 1, 2004.
Andrew L. Bates,
Advisory Committee Management Officer.

[FR Doc. 04-12750 Filed 6-4-04; 8:45 am]

BILLING CODE 7590-01-P